NATIONAL ARCHIVES AND RECORDS ADMINISTRATION

[NARA-2015-026]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 16, 2015. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (DAA-AU-2014-0036, 1 item, 1 temporary item). Master files of an electronic information system used to track equipment issued to soldiers.

2. Department of the Army, Agency-wide (DAA-AU-2015-0001, 1 item, 1 temporary item). Records relating to civilian academic papers including dissertations and other written contributions.

3. Department of the Army, Agency-wide (DAA-AU-2015-0003, 1 item, 1 temporary item). Master files of an electronic information system used to create, review, and approve changes to engineering documents relating to Army materiel.

4. Department of the Army, Agency-wide (DAA-AU-2015-0007, 1 item, 1 temporary item). Master files of an electronic information system that contains weapon systems life cycle management data including weapon systems requirements, engineering diagrams, and training documents.

5. Department of the Army, Agency-wide (DAA-AU-2015-0010, 2 items, 2 temporary items). Master files of an electronic information system that contains military service entrance files including consent forms, aptitude scores, and medical prescreening reports.

6. Department of the Army, Agency-wide (DAA-AU-2015-0011, 1 item, 1 temporary item). Master files of an electronic information system that contains records relating to security and access at ammunition and weapons storage facilities.

7. Department of Energy, Loan Program Office (DAA-0434-2015-0001, 5 items, 5 temporary items). Records relating to loan guarantees for alternative energy producers and manufacturers.

8. Department of the Navy, U.S. Marine Corps (DAA-0127-2012-0007, 1 item, 1 temporary item). Master files of an electronic information system used to manage and track budgets.

9. Department of the Navy, U.S. Marine Corps (DAA-0127-2013-0030, 1 item, 1 temporary item). Master files of an electronic information system used to track location, shelf life, and quality of chemical, biological, and nuclear defensive equipment.

10. Department of Transportation, Federal Motor Carriers Safety Administration (DAA-0557-2015-0001, 6 items, 6 temporary items). Records relating to the administration of a national registry for the medical certification of commercial motor vehicle drivers.

11. Commodity Futures Trading Commission, Agency-wide (DAA-0180-2012-0002, 6 items, 4 temporary items). Records of internal agency committees to include routine program files, management studies, and administrative policy records. Proposed for permanent retention are program files of senior leadership and mission-related policy records.

12. Commodity Futures Trading Commission, Enforcement Division (DAA-0180-2012-0003, 10 items, 8 temporary items). Referrals, investigation case files, enforcement case files, and summary records. Proposed for permanent retention are historically significant investigation and enforcement case files.

13. Consumer Financial Protection Bureau, Operations Division (DAA-0587-2014-0001, 5 items, 5 temporary items). Records relating to collection and disbursement of civil penalties to include case files, guidelines, and accounting documentation.

14. National Archives and Records Administration, Government-wide (DAA-GRS-2015-0001, 6 items, 4 temporary items). A revised General Records Schedule for Federal advisory committee records including records of Federal advisory committees whose sole purpose is grant review, committee accountability records, non-substantive committee records, and committee management records. Proposed for permanent retention are substantive records of non-grant review Federal advisory committees.

15. Railroad Retirement Board, Agency-wide (DAA-0184-2013-0003, 3 items, 3 temporary items). Master files of an electronic information system used to track claim files, and records relating to the administration of government travel cards.

16. Securities and Exchange Commission, Agency-wide (DAA-0266-2015-0001, 8 items, 8 temporary items). Records relating to the agency's internal Web site including content, management records, and technical documentation.

Dated: January 29, 2015.
Laurence Brewer,
Director, National Records Management Program.

[FR Doc. 2015-02875 Filed 2-11-15; 8:45 am]

BILLING CODE 7515-01-P